DEPARTMENT OF AGRICULTURE

Deschutes Provincial Advisory Committee (DPAC)

AGENCY: Forest Service, USDA.

ACTION: Notice of Meeting.

SUMMARY: The Deschutes Provincial Advisory Committee will meet on December 12, 2011 to introduce new nominees and current PAC members; review key principals and goals; and identify key areas of interest for 2012 meetings and field trips. The meeting will also provide updates on the forest restoration and sustainable recreation subcommittees.

Members will meet at the Deschutes National Forest Supervisors office, Aspen conference room (63095 Deschutes Market Road, Bend, Oregon) from 9 AM until 2 PM. All Deschutes Provincial Advisory Committee meetings are open to the public.

FOR FURTHER INFORMATION CONTACT: Michael Keown, Province Liaison, Sisters Ranger District, Pine Street and Highway 20, Sisters, Oregon 97759, Phone (541) 549-7735.

John Allen,
Deschutes National Forest Supervisor.

[FR Doc. 2011-31112 Filed 12-6-11; 8:45 am]

BILLING CODE 3410-11-M